U.S.-CHINA ECONOMIC AND SECURITY REVIEW COMMISSION

Notice of Open Public Hearing

AGENCY: U.S.-China Economic and Security Review Commission.

ACTION: Notice of open public hearing.

SUMMARY: Notice is hereby given of the following hearing of the U.S.-China Economic and Security Review Commission.

The Commission is mandated by Congress to investigate, assess, and report to Congress annually on “the national security implications of the economic relationship between the United States and the People's Republic of China.” Pursuant to this mandate, the Commission will hold a public hearing in Washington, DC on April 25, 2019 on “China in Space: A Strategic Competition?”

DATES: The hearing is scheduled for Thursday, April 25, 2019 at 9:30 a.m.

ADDRESSES: TBD, Washington, DC. A detailed agenda for the hearing will be posted on the Commission's website at www.uscc.gov. Also, please check the Commission's website for possible changes to the hearing schedule. Reservations are not required to attend the hearing.

FOR FURTHER INFORMATION CONTACT: Any member of the public seeking further information concerning the hearing should contact Leslie Tisdale Reagan, 444 North Capitol Street NW, Suite 602, Washington DC 20001; telephone: 202-624-1496, or via email at lreagan@uscc.gov. Reservations are not required to attend the hearing.

SUPPLEMENTARY INFORMATION:

Background: This is the fourth public hearing the Commission will hold during its 2019 report cycle. This hearing will address the implications for the United States of China's pursuit of space power as a means of strengthening its economic competitiveness, increasing its military capabilities, and raising its international status. The hearing will examine Administration views of U.S.-China space competition; China's pursuit of global leadership in space; the role of military-civil fusion in China's space ambitions, including China's leveraging of U.S. and other foreign technology and talent to support its military goals; and China's military space activities. The hearing will be co-chaired by Chairman Carolyn Bartholomew and Commissioner Michael McDevitt. Any interested party may file a written statement by April 25, 2019, by mailing to the contact above. A portion of each panel will include a question and answer period between the Commissioners and the witnesses.

Authority: Congress created the U.S.-China Economic and Security Review Commission in 2000 in the National Defense Authorization Act (Pub. L. 106-398), as amended by Division P of the Consolidated Appropriations Resolution, 2003 (Pub. L. 108-7), as amended by Public Law 109-108 (November 22, 2005), as amended by Public Law 113-291 (December 19, 2014).

Dated: April 10, 2019.
Daniel W. Peck,
Executive Director, U.S.-China Economic and Security Review Commission.

[FR Doc. 2019-07416 Filed 4-12-19; 8:45 am]

BILLING CODE 1137-00-P